DEPARTMENT OF DEFENSE

Department of the Air Force

Air University Board of Visitors' Air Force Institute of Technology Subcommittee Notice of Meeting

AGENCY: Department of the Air Force, Air University, Air Force Institue of Technology.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Air University Board of Visitors' Air Force Institute of Technology (AFIT) Subcommittee meeting will take place on 16 and 17 October, 2016 at the Air Force Institute of Technology, located at 2950 Hobson Way, Wright-Patterson AFB, Dayton, Ohio. The meeting will occur from approximately 8:00 a.m.-4:30 p.m. on Monday, 17 October, 2016 and from approximately 8:00 a.m.-3:00 p.m. on Tuesday, 18 October, 2016. The session that will be closed to the general public will be held from 1:25 p.m. to 5:00 p.m. on 17 October, 2016. The purpose of this Air Force Institue of Technology Subcommittee meeting is to provide independent advice and recommendations on matters pertaining to the educational policies, programs, and strategic direction of the Air Force Institute of Technology and to apportion time for Air Force senior leaders to brief the Air Force Institute of Technology Subcommittee on their most vital STEM updates and concerns. In accordance with 5 U.S.C. 552b, as amended, and 41 CFR 102-3.155, a portion of the AFIT Subcommittee meeting will be closed to the general public because they will discuss For Official Use Only (FOUO) information and matters covered by Section 552b of Title 5, United States Code, subsection (c), subparagraph (1).

Any member of the public that wishes to attend this meeting or provide input to the AFIT Subcommittee must contact the BOV meeting organizer at the phone number or email address listed in this announcement at least ten working days prior to the meeting date. Please ensure that you submit your written statement in accordance with 41 CFR 102-3.140(c) and section 10(a)(3) of the Federal Advisory Committee Act. Statements being submitted in response to the agenda mentioned in this notice must be received by the BOV meeting organizer at least ten calendar days prior to the meeting commencement date. The BOV meeting organizer will review all timely submissions and respond to them prior to the start of the meeting identified in this notice. Written statements received after this date may not be considered by the AFIT Subcommittee until their next scheduled meeting.

FOR FURTHER INFORMATION CONTACT: The BOV meeting organizer, Ms. Lisa Arnold at lisa.arnold.2@us.af.mil or 334-953-2989; Headquarters Air University, Chief, Advisory Boards, 55 LeMay Plaza South, Maxwell AFB, AL 36112.

Henry Williams,
Acting Air Force Federal Register Officer.

[FR Doc. 2016-23778 Filed 9-28-16; 11:15 am]

BILLING CODE 5001-10-P